DEPARTMENT OF AGRICULTURE

Agricultural Marketing Service

7 CFR Part 923

[Docket Nos. 99AMS-FV-923-A1; FV00-923-1]

Sweet Cherries Grown in Designated Counties in Washington; Secretary's Decision and Referendum Order on Proposed Amendment of Marketing Agreement No. 134 and Marketing Order No. 923; Correction

AGENCY: Agricultural Marketing Service, USDA.

ACTION: Proposed rule and referendum order; correction.

SUMMARY: The Agricultural Marketing Service published in the Federal Register on March 6, 2001, a Secretary's Decision and Referendum Order on proposed amendments to the Washington sweet cherry marketing order. This docket corrects the referendum dates in the Question and Answer Overview and changes the representative period for voting in the referendum from April 1, 1999, through March 31, 2000, to April 1, 2000, through March 31, 2001.

FOR FURTHER INFORMATION CONTACT: Kathleen M. Finn, Marketing Specialist, Marketing Order Administration Branch, Fruit and Vegetable Programs; AMS, USDA, room 2525-S, Washington, DC 20250-0200; telephone: (202) 720-2491, or Fax: (202) 720-5698.

SUPPLEMENTARY INFORMATION:

Background

The Secretary's decision and referendum order that are the subject of this correction propose amendments to the marketing agreement and order (order) and provide growers with the opportunity to vote in a referendum to determine if they favor the proposed amendments.

Need for Correction

As published, the referendum dates in the Question and Answer Overview are incorrect and the representative period for the purpose of the referendum is being changed from April 1, 1999, through March 31, 2000, to April 1, 2000, through March 31, 2001, to reflect the most recent crop year.

Correction of Publication

Accordingly, the publication of the proposed rule and referendum order (Docket Nos. 99AMS-FV-923-A1; FV00-923-1), which was the subject of FR Doc. 01-5418 published March 6, 2001 (66 FR 13447) is corrected as follows:

1. On page 13448, column one, under When Will the Referendum Be Held?, the dates “February 14, 2001, through February 28, 2001” are corrected to read “April 10, 2001, through April 27, 2001.”

2. On page 13447, column two, under DATES; page 13448, column one, under Who Is Eligible To Vote in The Referendum?; and page 13453, column two, lines 12 and 13, the dates “April 1, 1999, through March 31, 2000,” are corrected to read “April 1, 2000, through March 31, 2001.”

Authority: 7 U.S.C. 601-674.

Dated: April 4, 2001.
Kenneth C. Clayton,
Acting Administrator, Agricultural Marketing Service.

[FR Doc. 01-8869 Filed 4-6-01; 9:31 am]

BILLING CODE 3410-02-P